DEPARTMENT OF HEALTH AND HUMAN SERVICES

Health Resources and Service Administration

Meeting of the Advisory Committee on Interdisciplinary, Community-Based Linkages

AGENCY: Health Resources and Service Administration (HRSA), Department of Health and Human Services (HHS).

ACTION: Notice.

SUMMARY: The Advisory Committee on Interdisciplinary, Community-Based Linkages (ACICBL) has scheduled a public meeting. Information about the ACICBL is located on the ACICBL website at https://www.hrsa.gov/advisory-committees/interdisciplinary-community-linkages/index.html. This notice is being published less than 15 days prior to the meeting date due to unexpected administrative delays.

DATES: October 30, 2018 from 11:00 a.m.-5:00 p.m. ET.

ADDRESSES: This meeting will be held through teleconference and webinar. The conference call-in number is 1-888-455-0640; passcode: HRSA COUNCIL. The webinar link is https://hrsa.connectsolutions.com/acicbl.

FOR FURTHER INFORMATION CONTACT: Joan Weiss, Ph.D., RN, CRNP, FAAN, Senior Advisor and Designated Federal Official (DFO), Division of Medicine and Dentistry, HRSA, 5600 Fishers Lane, Room 15N39, Rockville, Maryland 20857; 301-443-0430; or jweiss@hrsa.gov.

SUPPLEMENTARY INFORMATION: ACICBL provides advice and recommendations to the Secretary of HHS (Secretary) and submits an annual report to the Secretary and Congress on a broad range of issues relating to grant programs authorized by Sections 750-760, Title VII, Part D of the Public Health Service Act (PHS Act).

During the October 30 meeting, ACICBL members will discuss possible topics to work on for fiscal year 2019. Under Section 757 of the PHS Act, ACICBL submits annual reports to the Secretary, the Committee on Health, Education, Labor, and Pensions of the Senate, and the Committee on Energy and Commerce of the House of Representatives. Not later than 14 days prior to the convening of the meeting, ACICBL shall prepare and make available an agenda of the matters to be considered by ACICBL at the meeting. The agenda will be posted on the ACICBL website at https://www.hrsa.gov/advisory-committees/interdisciplinary-community-linkages/index.html. Agenda items are subject to change as priorities dictate. Refer to the ACICBL website for any updated information concerning the meeting. Members of the public will have the opportunity to provide comments. Oral comments will be honored in the order they are requested and may be limited as time allows. Requests to make oral comments or provide written comments to ACICBL should be sent to Joan Weiss, DFO, using the contact information above at least 3 business days prior to the meeting.

Amy P. McNulty,
Acting Director, Division of the Executive Secretariat.

[FR Doc. 2018-23185 Filed 10-23-18; 8:45 am]

BILLING CODE 4165-15-P